DEPARTMENT OF COMMERCE

International Trade Administration

U.S. Environmental Solutions Toolkit—Landfill Standards

AGENCY: International Trade Administration, DOC.

ACTION: Notice and Request for Comment.

SUMMARY: This notice sets forth a request for input from U.S. businesses capable of exporting their goods or services relevant to landfill environmental standards. The Department of Commerce continues to develop the web-based U.S. Environmental Solutions Toolkit to be used by foreign environmental officials and foreign end-users of environmental technologies that will outline U.S. approaches to a series of environmental problems and highlight participating U.S. vendors of relevant U.S. technologies. The Toolkit will support the President's National Export Initiative by fostering export opportunities for the U.S. environmental industry, as well as advancing global environmental protection.

DATES: U.S. companies capable of exporting goods or services relevant to the environmental issues outlined above that are interested in participating in the U.S. Environmental Solutions Toolkit should self-identify by March 19, 2013, at 5:00 p.m. Eastern Daylight Time (EDT).

ADDRESSES: Please indicate interest in participating in the U.S. Environmental Solutions Toolkit by post, email, or fax to the attention of Todd DeLelle, Office of Energy & Environmental Industries, International Trade Administration, U.S. Department of Commerce, 1401 Constitution Ave. NW., Room 4053, Washington, DC 20230; 202-482-4877; email envirotech@trade.gov; fax 202-482-5665.

SUPPLEMENTARY INFORMATION: The development of the U.S. Environmental Solutions Toolkit requires the identification of U.S. vendors capable of supplying relevant goods and services to foreign buyers. United States exporters interested in being listed on the Toolkit Web site are encouraged to submit their company's name, Web site address, contact information, and landfill environmental standards category of interest from the following list:

(a) Liners

(b) Leachate Collection Systems

(c) Landfill Gas Collection

(d) Bioreactors

(e) Controlled Injection Systems

(f) Landfill Gas Air Monitoring

(g) Landfill Groundwater Monitoring

(h) Landfill Covers

(i) Landfill Control Systems

For purposes of participation in the Toolkit, “United States exporter” has the meaning found in 15 U.S.C. 4721(j), which provides: “United States exporter means (A) a United States citizen; (B) a corporation, partnership, or other association created under the laws of the United States or of any State; or (C) a foreign corporation, partnership, or other association, more than 95 percent of which is owned by persons described in subparagraphs (A) and (B), that exports, or seeks to export, goods or services produced in the United States* * *.”

An expression of interest in being listed on the Toolkit Web site in response to this notice will serve as a certification that the company is a United States exporter, as defined by 15 U.S.C. 4721(j), and seeks to export environmental solutions that fall within the category or categories indicated in your response. Responding to this notification constitutes consent to participate in the Toolkit and to the public sharing of the company name. It also constitutes consent to the inclusion of the name of the company on the Toolkit Web site. The company name will be listed along with a link to the company-specific Web site indicated in the response to this notice. No additional company information will be posted.

The U.S. Environmental Solutions Toolkit will refer users in foreign markets to U.S. approaches to solving environmental problems and to U.S. companies that can export related technologies. The Toolkit Web site will note that its contents and links do not constitute an official endorsement or approval by the U.S. Commerce Department or the U.S. Government of any of the companies, Web sites, products, or services listed.

FOR FURTHER INFORMATION CONTACT: Mr. Todd DeLelle, Office of Energy & Environmental Industries (OEEI), International Trade Administration, Room 4053, 1401 Constitution Avenue NW., Washington, DC 20230. (Phone: 202-482-4877; Fax: 202-482-5665; email: todd.delelle@trade.gov).

Catherine Vial,
Team Leader, Environmental and Renewable Energy Industries, Office of Energy and Environmental Industries.

[FR Doc. 2013-05265 Filed 3-6-13; 8:45 am]

BILLING CODE 3510-DR-P